DEPARTMENT OF AGRICULTURE

Food and Nutrition Service

Request for Public Comments for Use in Preparing for 2009 Reauthorization of the Child Nutrition Programs and the Special Supplemental Nutrition Program for Women, Infants and Children

AGENCY: Food and Nutrition Service, USDA.

ACTION: Notice of request for comments.

SUMMARY: This notice announces a request for public comments to help senior officials of the United States Department of Agriculture (USDA) prepare for the 2009 Reauthorization of the Child Nutrition Programs and the Special Supplemental Nutrition Program for Women, Infants and Children (WIC). USDA believes that public input and assessment of the performance of current programs—including WIC, National School Lunch Program, School Breakfast Program, Child and Adult Care Food Program, Summer Food Service Program, WIC Farmers Market Nutrition Program, Fresh Fruit and Vegetable Program, and Special Milk Program—are essential to help the Department plan for reauthorization.

SUPPLEMENTARY INFORMATION:

Background

The nutrition assistance programs administered by USDA work together to ensure a nutrition safety net for the Nation's children, elderly, and low-income families. These programs help protect children and low-income households from hunger. They inform all of us about the importance of healthful diets and active lifestyles. They help to prevent the health problems associated with poor nutrition and physical inactivity for all Americans.

While these programs are designed to meet the needs of people of all ages who may require assistance, they focus most strongly on the needs of children. The Child Nutrition Programs include the school meal programs (National School Lunch Program and School Breakfast Program) and the Child and Adult Care Food Program, which support nutritious meals and snacks served to children in schools, child care institutions, and afterschool care programs. In addition, the Summer Food Service Program and the Seamless Summer component of the National School Lunch Program provide nutritious food to children in programs in the summer months, when school is not in session.

WIC addresses the special needs of at-risk, low-income pregnant, breastfeeding, and postpartum women, infants, and children up to five years of age. It provides participants with monthly supplemental food packages targeted to their dietary needs, nutrition education, and referrals to a range of health and social services—benefits that promote a healthy pregnancy for mothers and a healthy start for their children.

Public Comment Submission

The reauthorization process provides Congress with a regular opportunity to examine the operation and effectiveness of the Federal nutrition assistance programs, and consider making improvements to their statutory structure under the Richard B. Russell National School Lunch Act (42 U.S.C. 1751-1769i) and the Child Nutrition Act of 1966 (42 U.S.C. 1771-1791). In anticipation of these discussions, USDA intends to gather input that will help the Department better understand the needs and concerns of program cooperators and participants at the State and local levels, including representatives from State agencies, local program offices, industry, and State and local advocacy groups.

This notice provides the public the opportunity to comment in writing on the issues that USDA expects to address in preparing for this reauthorization process. USDA has developed a framework of three themes to help focus the discussion of reauthorization issues. Commenters will be asked to address, but not be limited to, issues related to specific aspects of WIC, the WIC Farmers' Market Nutrition Program, National School Lunch Program, School Breakfast Program, Child and Adult Care Food Program, Summer Food Service Program, Fresh Fruit and Vegetable Program, and Special Milk Program. Key among these are:

• Strengthening program management and improving nutrition services,

• Ensuring that all eligible persons have access to program benefits, and

• Advancing technology and innovation.

Electronic Access and Filing Addresses

USDA invites interested persons to submit written comments electronically or by postal mail. To be assured of consideration, written comments must be received on or before October 15, 2008. Comments may be submitted by any of the following methods:

Federal eRulemaking Portal: Go to http://www.regulations.gov. Follow the online instructions for submitting comments electronically.

Mail: Address comments to Mr. Robert M. Eadie, Chief, Policy and Program Development Branch, Child Nutrition Division, Food and Nutrition Service, Department of Agriculture, 3101 Park Center Drive, Room 640, Alexandria, Virginia 22302-1594.

Fax: Submit comments by facsimile transmission to: 703-305-2879, attention Mr. Robert M. Eadie.

Hand Delivery or Courier: Deliver comments to 3101 Park Center Drive, Room 640, Alexandria, Virginia 22302-1594, during normal business hours of 8:30 a.m. to 5 p.m.

All comments submitted in response to this notice will be included in the record and will be made available to the public. Please be advised that comments, as well as the identity of the individuals or entities submitting the comments, will be subject to public disclosure. All submissions will be available for public inspection at the address noted above, Monday through Friday, 8:30 a.m. to 5 p.m. USDA may also make the comments available on the Federal eRulemaking portal.

Dated: May 14, 2008.
Eric Steiner,
Acting Administrator, Food and Nutrition Service.

[FR Doc. E8-11236 Filed 5-19-08; 8:45 am]

BILLING CODE 3410-30-P